DEPARTMENT OF AGRICULTURE

Forest Service

Oregon Coast Provincial Advisory Committee Meeting

AGENCY: Forest Service, USDA.

ACTION: Notice of meeting.

SUMMARY: The Oregon Coast Provincial Advisory Committee (PAC) will meet on January 17, 2002. The meeting will begin at 9 a.m., in the Siuslaw River Room, at Siuslaw National Forest Headquarters, 4077 SW Research Way, Corvallis, OR. Agenda items will include: Grand Ronde Stewardship; 2001 in Review; Focus on the Coming Year (theme, projects, topics); and Round Robin Information Sharing. A fifteen-minute public comment period is scheduled at 1:45 p.m. The committee welcomes the publics' written comments on committee business at any time. The meeting should end around 3:00 p.m. Interested citizens are encouraged to attend. Lunch will be on your own in Corvallis.

FOR FURTHER INFORMATION CONTACT: Joni Quarnstrom, Public Affairs Specialist, Siuslaw National Forest, 541/750-7075 or write to Forest Supervisor, Siuslaw National Forest, P.O. Box 1148, Corvallis, OR 97339.

Dated: December 19, 2001.
Gloria D. Brown,
Forest Supervisor.

[FR Doc. 01-31739 Filed 12-26-01; 8:45 am]

BILLING CODE 3410-11-M